DEPARTMENT OF HOMELAND SECURITY

Federal Emergency Management Agency

[Docket ID FEMA-2019-0002; Internal Agency Docket No. FEMA-B-1948]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Denver | City and County of Denver (19-08-0316P) | The Honorable Michael B. Hancock, Mayor, City and County of Denver, 1437 Bannock Street, Suite 350, Denver, CO 80202 | Department of Public Works, 201 West Colfax Avenue, Denver, CO 80202 | https://msc.fema.gov/portal/advanceSearch | Oct. 18, 2019 | 080046
El Paso | Town of Palmer Lake (18-08-1108P) | The Honorable John Cressman, Mayor, Town of Palmer Lake, P.O. Box 208, Palmer Lake, CO 80910 | Building Department, 2880 International Circle, Colorado Springs, CO 80910 | https://msc.fema.gov/portal/advanceSearch | Sep. 11, 2019 | 080065
El Paso | Unincorporated areas of El Paso County (18-08-1108P) | The Honorable Mark Waller, Chairman, El Paso County Board of Commissioners, 200 South Cascade Avenue, Suite 100, Colorado Springs, CO 80903 | El Paso County Building Department, 2880 International Circle, Colorado Springs, CO 80910 | https://msc.fema.gov/portal/advanceSearch | Sep. 11, 2019 | 080059
Weld | Unincorporated areas of Weld County (19-08-0635P) | The Honorable Barbara Kirkmeyer, Chair, Weld County Board of Commissioners, P.O. Box 758, Greeley, CO 80632 | Department of Planning Services, 1555 North 17th Avenue, Greeley, CO 80631 | https://msc.fema.gov/portal/advanceSearch | Oct. 15, 2019 | 080266
Florida:
Lee | Town of Fort Myers Beach (19-04-0629P) | The Honorable Anita Cereceda, Mayor, Town of Fort Myers Beach, 2525 Estero Boulevard, Fort Myers Beach, FL 33931 | Community Development Department, 2525 Estero Boulevard, Fort Myers Beach, FL 33931 | https://msc.fema.gov/portal/advanceSearch | Oct. 28, 2019 | 120673
Lee | Town of Fort Myers Beach (19-04-1744P) | The Honorable Anita Cereceda, Mayor, Town of Fort Myers Beach, 2525 Estero Boulevard, Fort Myers Beach, FL 33931 | Community Development Department, 2525 Estero Boulevard, Fort Myers Beach, FL 33931 | https://msc.fema.gov/portal/advanceSearch | Oct. 22, 2019 | 120673
Monroe | Unincorporated areas of Monroe County (19-04-2934P) | The Honorable Sylvia Murphy, Mayor, Monroe County Board of Commissioners, 102050 Overseas Highway, Suite 234, Key Largo, FL 33037 | Monroe County Building Department, 2798 Overseas Highway, Suite 300, Marathon, FL 33050 | https://msc.fema.gov/portal/advanceSearch | Oct. 10, 2019 | 125129
Monroe | Unincorporated areas of Monroe County (19-04-3275P) | The Honorable Sylvia Murphy, Mayor, Monroe County Board of Commissioners, 102050 Overseas Highway, Suite 234, Key Largo, FL 33037 | Monroe County Building Department, 2798 Overseas Highway, Suite 300, Marathon, FL 33050 | https://msc.fema.gov/portal/advanceSearch | Oct. 28, 2019 | 125129
Orange | City of Ocoee (19-04-0035P) | The Honorable Rusty Johnson, Mayor, City of Ocoee, 150 North Lakeshore Drive, Ocoee, FL 34761 | Planning and Zoning Division, 150 North Lakeshore Drive, Ocoee, FL 34761 | https://msc.fema.gov/portal/advanceSearch | Nov. 4, 2019 | 120185
Palm Beach | Unincorporated areas of Palm Beach County (18-04-6177P) | The Honorable Mack Bernard, Mayor, Palm Beach County Board of Commissioners, 301 North Olive Avenue, West Palm Beach, FL 33401 | Palm Beach County Building Division, 2300 North Jog Road, West Palm Beach, FL 33411 | https://msc.fema.gov/portal/advanceSearch | Oct. 11, 2019 | 120192
Massachusetts: Worcester | Town of Charlton (19-01-0726P) | The Honorable David Singer, Chairman, Town of Charlton Board of Selectmen, 37 Main Street, Charlton, MA 01507 | Town Hall, 37 Main Street, Charlton, MA 01507 | https://msc.fema.gov/portal/advanceSearch | Oct. 2, 2019 | 250299
New Mexico:
Taos | Town of Taos (18-06-3973P) | The Honorable Daniel R. Barrone, Mayor, Town of Taos, 400 Camino De La Placita, Taos, NM 87571 | Department of Public Works, 400 Camino De La Placita, Taos, NM 87571 | https://msc.fema.gov/portal/advanceSearch | Sep. 6, 2019 | 350080
Taos | Town of Taos (18-06-4061P) | The Honorable Daniel R. Barrone, Mayor, Town of Taos, 400 Camino De La Placita, Taos, NM 87571 | Department of Public Works, 400 Camino De La Placita, Taos, NM 87571 | https://msc.fema.gov/portal/advanceSearch | Sep. 13, 2019 | 350080
North Carolina:
Bladen | Town of Elizabethtown (18-04-5359P) | The Honorable Sylvia Campbell, Mayor, Town of Elizabethtown, 805 West Broad Street, P.O. Box 700, Elizabethtown, NC 28337 | Town Hall, 805 West Broad Street, Elizabethtown, NC 28337 | https://msc.fema.gov/portal/advanceSearch | Sep. 25, 2019 | 370027
Durham | City of Durham (18-04-5509P) | The Honorable Steve Schewel, Mayor, City of Durham, 101 City Hall Plaza, Durham, NC 27701 | The City of Durham Public Works Department, 101 City Hall Plaza,, Suite 3100, Durham, NC 27701 | https://msc.fema.gov/portal/advanceSearch | Sep. 12, 2019 | 370086
Onslow | Unincorporated areas of Onslow County (18-04-3141P) | The Honorable Jack Bright, Chairman, Onslow County Board of Commissioners, 234 Northwest Corridor Boulevard, Jacksonville, NC 28540 | Onslow County Planning and Development Department, 234 Northwest Corridor Boulevard, Jacksonville, NC 28540 | https://msc.fema.gov/portal/advanceSearch | Oct. 15, 2019 | 370340
Wake | Town of Apex (18-04-7120P) | The Honorable Lance Olive, Mayor, Town of Apex, P.O. Box 250, Apex, NC 27502 | Planning Department, 73 Hunter Street, 2nd Floor, Apex, NC 27502 | https://msc.fema.gov/portal/advanceSearch | Sep. 16, 2019 | 370467
South Carolina:
Lexington | Unincorporated areas of Lexington County (18-04-6164P) | The Honorable Scott Whetstone, Chairman, Lexington County Council, 212 South Lake Drive, Suite 601, Lexington, SC 29072 | Lexington County Community Development Department, 212 South Lake Drive, Suite 401, Lexington, SC 29072 | https://msc.fema.gov/portal/advanceSearch | Oct. 25, 2019 | 450129
Saluda | Unincorporated areas of Saluda County (19-04-0064P) | Ms. Sandra G. Padget, Saluda County Director, 400 West Highland Street, Saluda, SC 29138 | Saluda County Building Codes Department, 400 W Highland Street, Saluda, SC 29138 | https://msc.fema.gov/portal/advanceSearch | Sep. 6, 2019 | 450230
South Dakota: Lawrence | City of Spearfish (19-08-0612P) | The Honorable Dana Boke, Mayor, City of Spearfish, 625 North 5th Street, Spearfish, SD 57783 | City Hall, 625 North 5th Street, Spearfish, SD 57783 | https://msc.fema.gov/portal/advanceSearch | Oct. 21, 2019 | 460046
Texas:
Bexar | City of San Antonio (18-06-2819P) | The Honorable Ron Nirenberg, Mayor, City of San Antonio, P.O. Box 839966, San Antonio, TX 78283 | Transportation and Capitol Improvements Department, Stormwater Division, 1901 South Alamo Street, 2nd Floor, San Antonio, TX 78204 | https://msc.fema.gov/portal/advanceSearch | Sep. 3, 2019 | 480045
Bexar | City of San Antonio (18-06-2885P) | The Honorable Ron Nirenberg, Mayor, City of San Antonio, P.O. Box 839966, San Antonio, TX 78283 | Transportation and Capitol Improvements Department, Stormwater Division, 1901 South Alamo Street, 2nd Floor, San Antonio, TX 78204 | https://msc.fema.gov/portal/advanceSearch | Sep. 9, 2019 | 480045
Bexar | City of San Antonio (18-06-3814P) | The Honorable Ron Nirenberg, Mayor, City of San Antonio, P.O. Box 839966, San Antonio, TX 78283 | Transportation and Capitol Improvements Department, Stormwater Division, 1901 South Alamo Street, 2nd Floor, San Antonio, TX 78204 | https://msc.fema.gov/portal/advanceSearch | Sep. 16, 2019 | 480045
Bexar | Unincorporated areas of Bexar County (18-06-2501P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Sep. 30, 2019 | 480035
Bexar | Unincorporated areas of Bexar County (18-06-2819P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Sep. 3, 2019 | 480035
Bexar | Unincorporated areas of Bexar County (19-06-0167P) | The Honorable Nelson W. Wolff, Bexar County Judge, 101 West Nueva Street, 10th Floor, San Antonio, TX 78205 | Bexar County Public Works Department, 233 North Pecos-La Trinidad Street, Suite 420, San Antonio, TX 78207 | https://msc.fema.gov/portal/advanceSearch | Sep. 23, 2019 | 480035
Collin | City of McKinney (18-06-1366P) | The Honorable George Fuller, Mayor, City of McKinney, P.O. Box 517, McKinney, TX 75070 | Engineering Department, 221 North Tennessee Street, McKinney, TX 75069 | https://msc.fema.gov/portal/advanceSearch | Oct. 21, 2019 | 480135
Dallas | City of Dallas (18-06-3143P) | The Honorable Michael Rawlings, Mayor, City of Dallas, 1500 Marilla Street, Suite 5EN, Dallas, TX 75201 | Oak Cliff Municipal Center, 320 East Jefferson Boulevard, Room 312, Dallas, TX 75203 | https://msc.fema.gov/portal/advanceSearch | Sep. 30, 2019 | 480171
Dallas | City of Garland (18-06-3143P) | The Honorable Lori Barnett Dodson, Mayor, City of Garland, 200 North 5th Street, Garland, TX 75040 | City Hall, 200 North 5th Street, Garland, TX 75040 | https://msc.fema.gov/portal/advanceSearch | Sep. 30, 2019 | 485471
Dallas | City of Rowlett (18-06-3143P) | The Honorable Tammy Dana-Bashian, Mayor, City of Rowlett, 4000 Main Street, Rowlett, TX 75088 | City Hall, 4000 Main Street, Rowlett, TX 75088 | https://msc.fema.gov/portal/advanceSearch | Sep. 30, 2019 | 480185
Harris | City of Houston (19-06-2522P) | The Honorable Sylvester Turner, Mayor, City of Houston, P.O. Box 1562, Houston, TX 77251 | Floodplain Management Department, 1002 Washington Avenue, Houston, TX 77002 | https://msc.fema.gov/portal/advanceSearch | Oct. 21, 2019 | 480296
Tarrant | City of Fort Worth (18-06-3936P) | The Honorable Betsy Price, Mayor, City of Fort Worth, 200 Texas Street, Fort Worth, TX 76102 | Transportation and Public Works Department, 200 Texas Street, Fort Worth, TX 76102 | https://msc.fema.gov/portal/advanceSearch | Sep. 6, 2019 | 480596
Tarrant | City of Keller (18-06-1585P) | The Honorable Pat McGrail, Mayor, City of Keller, P.O. Box 770, Keller, TX 76244 | Public Works Department, 1100 Bear Creek Parkway, Keller, TX 76248 | https://msc.fema.gov/portal/advanceSearch | Oct. 24, 2019 | 480602
Webb | Unincorporated areas of Webb County (18-06-2680P) | The Honorable Tano E. Tijerina, Webb County Judge, 1000 Houston Street, 3rd Floor, Laredo, TX 78040 | Webb County Planning Department, 1110 Washington Street, Suite 302, Laredo, TX 78040 | https://msc.fema.gov/portal/advanceSearch | Nov. 25, 2019 | 481059

[FR Doc. 2019-16411 Filed 7-31-19; 8:45 am]

BILLING CODE 9110-12-P